DEPARTMENT OF THE TREASURY

Fiscal Service

Financial Management Service; Senior Executive Service; Financial Management Service Performance Review Board

AGENCY: Financial Management Service, Fiscal Service, Department of the Treasury.

ACTION: Notice.

SUMMARY: This notice announces the appointment of members to the Financial Management Service Performance Review Board.

DATES: This notice is effective on August 27, 2001.

FOR FURTHER INFORMATION CONTACT: Kenneth R. Papaj, Deputy Commissioner, Financial Management Service, 401 14th Street, SW., Room 546, Washington, DC 20227; telephone: (202) 874-7000.

SUPPLEMENTARY INFORMATION: Pursuant to 5 U.S.C. 4314(c)(4), notice is given of the appointment of individuals to serve as members of the Financial Management Service (FMS) Performance Review Board (PRB). The FMS PRB reviews the performance appraisals of career senior executives below the Assistant Commissioner level and makes recommendations regarding ratings, bonuses, and other personnel actions. Four voting members constitute a quorum. The names and titles of the FMS PRB members are as follows:

Primary Members

Kenneth R. Papaj, Deputy Commissioner

Constance E. Craig, Assistant Commissioner, Information Resources (Chief Information Officer)

Nancy C. Fleetwood, Assistant Commissioner, Debt Management Service

Bettsy H. Lane, Assistant Commissioner, Federal Finance

John D. Newell, Assistant Commissioner, Regional Operations

Alternate Members

Scott H. Johnson, Assistant Commissioner, Management (Chief Financial Officer)

Judith R. Tillman, Assistant Commissioner, Financial Operations

Dated: August 22, 2001.
Richard L. Gregg,
Commissioner.

[FR Doc. 01-21584 Filed 8-24-01; 8:45 am]

BILLING CODE 4810-35-M